DEPARTMENT OF COMMERCE

International Trade Administration

[A-351-806]

Silicon Metal From Brazil: Extension of Time Limit for Final Results of Antidumping Duty Administrative Review

AGENCY: Import Administration, International Trade Administration, Department of Commerce.

EFFECTIVE DATE: November 20, 2001.

FOR FURTHER INFORMATION CONTACT: Maisha Cryor or Ronald Trentham, AD/CVD Enforcement, Office 4, Group II, Import Administration, International Trade Administration, U.S. Department of Commerce, 14th Street and Constitution Avenue, N.W., Washington, DC 20230; (202) 482-5831 and (202) 482-6320, respectively.

Information

Statutory Time Limits

Section 751(a)(3)(A) of the Tariff Act of 1930, as amended (the Act), requires the Department of Commerce (the Department) to make a preliminary determination within 245 days after the last day of the anniversary month of an order/finding for which a review is requested and a final determination within 120 days after the date on which the preliminary determination is published. However, if it is not practicable to complete the review within the time period, section 751(a)(3)(A) of the Act allows the Department to extend the time limit for the preliminary determination to a maximum of 365 days and for the final determination to 180 days (or 300 days if the Department does not extend the time limit for the preliminary determination) from the date of publication of the preliminary determination.

Background

On September 6, 2000, the Department published a notice of initiation of an administrative review of the antidumping duty order on Silicon Metal from Brazil covering the period July 1, 1999 through June 30, 2000 (65 FR 53980). On August 6, 2001 (66 FR 40980), we published the preliminary results of review. In our notice of preliminary results, we stated our intention to issue the final results of this review no later than 120 days after the date of publication of the preliminary results, December 4, 2001.

Extension of Final Results of Review

We determine that it is not practicable to complete the final results of this review within the original time limit. See Decision Memorandum regarding this extension from Holly A. Kuga to Bernard T. Carreau, dated concurrently with this notice, which is on file in the Central Records Unit, Room B-099 of the main Commerce Building. Therefore, the Department is extending the time limit for completion of the final results until no later than February 2, 2002.

This extension is in accordance with section 751(a)(3)(A) of the Act.

Dated: November 11, 2001.
Bernard T. Carreau,
Deputy Assistant Secretary for Import Administration, Group II.

[FR Doc. 01-28999 Filed 11-19-01; 8:45 am]

BILLING CODE 3510-DS-P